COMMODITY FUTURES TRADING COMMISSION

17 CFR Parts 140 and 145

Corrections to Regional Office Information

AGENCY: Commodity Futures Trading Commission.

ACTION: Final rule.

SUMMARY: The Commodity Futures Trading Commission (“Commission”) is amending its regulations to delete references to the Minneapolis office, which was closed as of December 31, 2006, and to update the address of the Southwestern regional office.

DATES: Effective April 4, 2007.

FOR FURTHER INFORMATION CONTACT: Stacy Yochum, Deputy Executive Director, at (202) 418-5157, Office of the Executive Director, Commodity Futures Trading Commission, Three Lafayette Centre, 1155 21st St., NW., Washington DC 20581; e-mail syochum@cftc.gov.

SUPPLEMENTARY INFORMATION: Commission Rule 140.2 describes the organization and location of the Commission's regional offices in New York, Chicago, and Kansas City (the Eastern, Central, and Southwestern regional offices). As of December 31, 2006, the Commission closed the Minneapolis sub-office of the Southwestern regional office. In addition, the Kansas City office moved to a new location in September 2004. The Commission is therefore amending Rule 140.2 to delete the reference to the Minneapolis office and to reflect the new address of the Southwestern regional office. There is no change to the states covered by the Southwestern region. The Commission is also replacing the term “regional director” with “regional coordinator” to reflect the term used by the Commission to describe the head of each regional office.

In addition, the Commission is amending the list of addresses provided in Rule 145.6, which instructs members of the public on where to direct requests for public records, to remove the reference to the Minneapolis office and to update the Kansas City address.

List of Subjects

17 CFR Part 140

Authority delegations (Government agencies), Organization and functions (Government agencies).

17 CFR Part 145

Confidential business information, Freedom of Information.

Accordingly, 17 CFR parts 140 and 145 are amended as follows:

PART 140—ORGANIZATION, FUNCTIONS, AND PROCEDURES OF THE COMMISSION

1. The authority citation for part 140 continues to read as follows:

Authority: 7 U.S.C. 2 and 12a.

2. Section 140.2 is amended by revising the section heading, the introductory text, and paragraph (c) to read as follows:

§ 140.2 Regional Office-Regional Coordinators.

Each of the Regional offices described herein functions as set forth in this section under the direction of a Regional Coordinator who, as a collateral duty, oversees the administration of the office and represents the Commission in negotiations with employee union officials and in interactions with external parties. Each regional office has delegated authority for the enforcement of the Act and administration of the programs of the Commission in the particular regions.

* * * * *

(c) The Southwestern Regional Office is located at Two Emanuel Cleaver II Blvd., Suite 300, Kansas City, Missouri 64112, and is responsible for enforcement of the Act and administration of the programs of the Commission in the States of Alaska, Arizona, Arkansas, California, Colorado, Hawaii, Idaho, Iowa, Kansas, Louisiana, Minnesota, Missouri, Montana, Nebraska, Nevada, New Mexico, North Dakota, Oklahoma, Oregon, South Dakota, Texas, Utah, Washington, and Wyoming.

PART 145—COMMISSION RECORDS AND INFORMATION

3. The authority citation for part 145 continues to read as follows:

Authority: Pub. L. 99-570, 100 Stat. 3207; Pub. L. 89-554, 80 Stat. 54; Pub. L. 98-502, 88 Stat. 1561-1564 (5 U.S.C. 552); Sec. 101(a), Pub. L. 93-463, 88 Stat. 1389 (5 U.S.C. 4a(j)); unless otherwise noted.

4. Section 145.6 is amended by revising paragraph (a) to read as follows:

§ 145.6 Commission office to contact for assistance; registration records available.

(a) Whenever this part directs that a request be directed to the Assistant Secretary of the Commission for FOI, Privacy and Sunshine Acts Compliance, the request shall be made in writing and shall be addressed or otherwise directed to the Office of the Secretariat, Commodity Futures Trading Commission, Three Lafayette Centre, 1155 21st Street, NW., Washington, DC 20581. Requests for public records directed to a regional office of the Commission pursuant to § 145.2 should be sent to:

Commodity Futures Trading Commission, 140 Broadway, New York, New York 10005, Telephone: (646) 746-9700.

Commodity Futures Trading Commission, 525 West Monroe Street, Suite 1100 North, Chicago, Illinois 60661, Telephone: (312) 596-0700.

Commodity Futures Trading Commission, Two Emanuel Cleaver II Blvd., Suite 300, Kansas City, Missouri 64112, Telephone: (816) 960-7700.

* * * * *

Dated: March 29, 2007.
By the Commission.
Eileen A. Donovan,
Acting Secretary of the Commission.

[FR Doc. E7-6190 Filed 4-3-07; 8:45 am]

BILLING CODE 6351-01-P